DEPARTMENT OF TRANSPORTATION

Federal Railroad Administration

[Docket Number FRA-2025-0687]

Notice of Petition for Waiver of Compliance

AGENCY: Federal Railroad Administration (FRA), Department of Transportation (DOT).

ACTION: Notice.

SUMMARY: This document provides the public notice that BNSF Railway Company (BNSF) petitioned FRA for relief from certain regulations concerning remote control locomotives.

DATES: FRA must receive comments on the petition by February 11, 2026. FRA will consider comments received after that date to the extent practicable.

ADDRESSES:

Comments: Comments related to this docket may be submitted by going to https://www.regulations.gov and following the online instructions for submitting comments.

Instructions: All submissions must include the agency name and docket number. All comments received will be posted without change to https://www.regulations.gov; this includes any personal information. Please see the Privacy Act heading in the SUPPLEMENTARY INFORMATION section of this document for Privacy Act information related to any submitted comments or materials.

Docket: For access to the docket to read background documents or comments received, go to https://www.regulations.gov and follow the online instructions for accessing the docket.

FOR FURTHER INFORMATION CONTACT: Derrick Griffith, Railroad Safety Specialist, FRA Motive Power & Equipment Division, telephone: 202-493-6322, email: derrick.griffith@dot.gov.

SUPPLEMENTARY INFORMATION: Under part 211 of title 49 Code of Federal Regulations (CFR), this document provides the public notice that by letter dated August 27, 2025, BNSF petitioned FRA for a waiver of compliance from certain provisions of the Federal railroad safety regulations contained at 49 CFR part 229 (Railroad Locomotive Safety Standards). FRA assigned the petition Docket Number FRA-2025-0687.

Specifically, BNSF seeks relief from § 229.15(b)(4), Inspection, testing, and repair, which requires locomotives that use remote control pullback protection to “perform a conditioning run over a track” with a positive train stop system “to ensure that the system functions as intended.” The regulation states that the conditioning run be conducted “at the first practical time after the start of each shift, but no more than 2 hours after the start of that shift.” BNSF seeks to move the timing of the run “to align with the first movement on the track protected by the Pullback System.”

In support of its request, BNSF states that the relief will not eliminate the conditioning run required by the regulation, but rather change the timing, so that the remote control operator can ascertain “that the Pullback System is functioning as intended by operating the locomotive to the transponder point.” BNSF notes that the purpose of the conditioning run, to verify the pullback system is functioning prior to the operator continuing their work, is preserved. Further, BNSF suggests that the relief will promote greater use of remote control pullback protection within rail yards, which in turn could promote greater safety outcomes.

A copy of the petition, as well as any written communications concerning the petition, is available for review online at www.regulations.gov.

Interested parties are invited to participate in these proceedings by submitting written views, data, or comments. FRA does not anticipate scheduling a public hearing in connection with these proceedings since the facts do not appear to warrant a hearing. If any interested party desires an opportunity for oral comment and a public hearing, they should notify FRA, in writing, before the end of the comment period and specify the basis for their request.

Communications received by February 11, 2026 will be considered by FRA before final action is taken. Comments received after that date will be considered if practicable.

Privacy Act

Anyone can search the electronic form of any written communications and comments received into any of FRA's dockets by the name of the individual submitting the comment (or signing the document, if submitted on behalf of an association, business, labor union, etc.). Under 5 U.S.C. 553(c), DOT solicits comments from the public to inform its processes. DOT posts these comments, without edit, including any personal information the commenter provides, to www.regulations.gov, as described in the system of records notice (DOT/ALL-14 FDMS), which can be reviewed at https://www.transportation.gov/privacy. See also https://www.regulations.gov/privacy-notice for the privacy notice of regulations.gov.

Issued in Washington, DC.
John Karl Alexy,
Associate Administrator for Railroad Safety, Chief Safety Officer.

[FR Doc. 2026-00376 Filed 1-9-26; 8:45 am]

BILLING CODE 4910-06-P